AGENCY FOR INTERNATIONAL DEVELOPMENT

Agency Information Collection Activities; Submission to the Office of Management and Budget for Review and Approval; Comment Request

AGENCY: U.S. Agency for International Development.

ACTION: Notice of information collection.

SUMMARY: U.S. Agency for International Development (USAID), as part of its continuing effort to reduce paperwork and respondent burden, invites the general public and other Federal agencies to take this opportunity to comment on the following new information collection, as required by the Paperwork Reduction Act of 1995, Public Law 104-13. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of the information on the respondents.

DATES: All comments should be submitted within 60 calendar days from the date of this publication.

ADDRESSES: Interested persons are invited to submit comments regarding the proposed information collection to Tara Hill, USAID, Global Development Lab, Center for Development Research (USAID/LAB/CDR) at thill@usaid.gov.

FOR FURTHER INFORMATION CONTACT: Tara Hill, Acting Division Chief, HESN 2.0 Awards Management Division (USAID/Global Development Lab), thill@usaid.gov or 202-712-0589.

SUPPLEMENTARY INFORMATION:

I. Abstract

In summer 2018, USAID's Global Development Lab awarded the Research Technical Assistance Center (RTAC) Contract to NORC, at the University of Chicago. The principal goal of RTAC is to establish, maintain, and utilize a diverse network of university-based research experts who can be available to apply to fill USAID's needs on an on-demand basis. The RTAC research network is required to demonstrate regional, technical, and demographic diversity and has targeted participation goals for female researchers, researchers from minority serving institutions (MSIs), and researchers from developing countries.

The RTAC website will provide information to potential researchers on USAID research activities and previous projects and is intended to offer a publicly available and accessible way for interested parties to “apply” to be included in the RTAC Partner Pool (a pool of researchers that USAID can than call on to apply for consideration as subcontractors to complete unique project requirements for research over the next four years.) To “apply” to be included in the RTAC Partner Pool, interested parties will click on a website button that will be visible in the top corner of the www.rtachesn.org website. Via the website button they will be invited to complete the identified application questions so that they can apply to be included in the RTAC Partner Pool (and hence be available to receive information on potential future subcontract work under the RTAC contract).

II. Method of Collection

Electronic.

III. Data

Title: Research Technical Assistance Center (RTAC) Partner Pool Application.

OMB Number: OMB 0412-XXXX.

Expiration Date: Not yet known.

Type of Request: New collection.

Title: Certification of Identity.

OMB Number: OMB 0412-0589.

Form Number: AID Form 507-1.

Affected Public: Individuals.

Estimated Number of Respondents: 600.

Estimated Total Annual Burden Hours: 50.

IV. Request for Comments

Comments are invited on: (1) Whether the proposed collection of information is necessary for the proper performance of the functions of USAID, including whether the information collected has practical utility; (2) the accuracy of USAID's estimate of the burden (including both hours and cost) of the proposed collection of information; (3) ways to enhance the quality, utility, and clarity of the information to be collected; and (4) ways to minimize the burden of the collection of information on respondents.

Comments submitted in response to this notice will be summarized and included in the request for OMB approval of this information collection. The comments will also become a matter of public record.

Ticora V. Jones,
Center Director, Center for Development Research, Global Development Lab, U.S. Agency for International Development.

[FR Doc. 2019-04772 Filed 3-14-19; 8:45 am]

BILLING CODE P